ENVIRONMENTAL PROTECTION AGENCY

[FRL-13179-01-R8]

Clean Air Act Operating Permit Program; Order on Petition for Objection to State Operating Permit for Platteville Natural Gas Processing Plant

AGENCY: Environmental Protection Agency (EPA).

ACTION: Notice of final order on petition.

SUMMARY: The Environmental Protection Agency (EPA) Administrator signed an order dated December 3, 2025, denying a petition dated February 18, 2025, from Center for Biological Diversity (CBD). The petition requested that the EPA object to a Clean Air Act (CAA) operating permit issued by the Colorado Department of Public Health and Environment (CDPHE) to DCP Operating Company LP (DCP), for its Platteville facility located in Weld County, Colorado.

FOR FURTHER INFORMATION CONTACT: James Floyd, EPA Region 8 Air and Radiation Division, 1595 Wynkoop St., Mail code: 8ARD-AP-P, Denver, CO 80202, telephone number: (303) 312-6975, email address: floyd.james@epa.gov. The final order and petition are available electronically at: https://www.epa.gov/title-v-operating-permits/title-v-petition-database.

SUPPLEMENTARY INFORMATION: The EPA received a petition from CBD dated February 18, 2025, requesting that the EPA object to the issuance of title V operating permit no. 02OPWE252, issued by CDPHE to DCP in Weld County, Colorado. On December 3, 2025, the EPA Administrator issued an order denying the petition. The order itself explains the basis for the EPA's decision.

Sections 307(b) and 505(b)(2) of the CAA provide that a petitioner may request judicial review of those portions of an order that deny issues in a petition. Any petition for review shall be filed in the United States Court of Appeals for the appropriate circuit no later than April 27, 2026.

Cyrus M. Western,
Regional Administrator, Region 8.

[FR Doc. 2026-03906 Filed 2-25-26; 8:45 am]

BILLING CODE 6560-50-P